DEPARTMENT OF AGRICULTURE

Forest Service

Forest Counties Payments Committee

AGENCY: Forest Service, USDA.

ACTION: Correction.

SUMMARY: In notice document 02-11111 beginning on page 30353 in the issue of Monday, May 6, 2002, make the following correction:

On page 30353 in the second column, in the SUMMARY section, the date of the Rapid City, South Dakota, meeting of the Forest Counties Payments Committee was previously listed as occurring on April 20, 2002. This should be changed to read May 17, 2002.

Dated: May 7, 2002.
Maitland Sharpe,
Acting Deputy Chief, Programs and Legislation.

[FR Doc. 02-11809 Filed 5-10-02; 8:45 am]

BILLING CODE 3410-11-P